DEPARTMENT OF COMMERCE

International Trade Administration

[A-549-821]

Polyethylene Retail Carrier Bags From Thailand: Preliminary Results of Antidumping Duty Administrative Review; 2011-2012

AGENCY: Import Administration, International Trade Administration, Department of Commerce.

SUMMARY: The Department of Commerce (the Department) is conducting an administrative review of the antidumping duty order on polyethylene retail carrier bags (PRCBs) from Thailand. The review covers 11 respondents. The period of review (POR) is August 1, 2011, through July 31, 2012. We preliminarily find that subject merchandise has been sold at less than normal value by the companies subject to this review.

DATES: Effective Date: May 14, 2013.

FOR FURTHER INFORMATION CONTACT: Dmitry Vladimirov, AD/CVD Operations, Office 1, Import Administration, International Trade Administration, U.S. Department of Commerce, 14th Street and Constitution Avenue NW., Washington, DC 20230; telephone: (202) 482-0665.

SUPPLEMENTARY INFORMATION:

Scope of the Order

The merchandise subject to the antidumping duty order is polyethylene retail carrier bags, which are currently classified under subheading 3923.21.0085 of the Harmonized Tariff Schedule of the United States (HTSUS). The HTSUS number is provided for convenience and customs purposes. A full description of the scope of the order is contained in the memorandum from Christian Marsh, Deputy Assistant Secretary for Antidumping and Countervailing Duty Operations, to Paul Piquado, Assistant Secretary for Import Administration, “Decision Memorandum for Preliminary Results of the 2011/12 Antidumping Duty Administrative Review: Polyethylene Retail Carrier Bags from Thailand,” dated concurrently with this notice (Preliminary Decision Memorandum), which is hereby adopted by this notice. The written description is dispositive.

The Preliminary Decision Memorandum is a public document and is on file electronically via Import Administration's Antidumping and Countervailing Duty Centralized Electronic Service System (IA ACCESS). Access to IA ACCESS is available to registered users at http://iaaccess.trade.gov and is available to all parties in the Central Records Unit, room 7046 of the main Department of Commerce building. In addition, a complete version of the Preliminary Decision Memorandum can be accessed directly on the Internet at http://www.trade.gov/ia/. The signed Preliminary Decision Memorandum and the electronic versions of the Preliminary Decision Memorandum are identical in content.

Methodology

We have relied on total facts available with respect to Trinity Pac Co., Ltd. (Trinity Pac), the sole company selected for individual examination in this review. Because this company did not act to the best of its ability to respond to the Department's requests for information, we have drawn an adverse inference in selecting from among the facts otherwise available.¹ We have preliminarily determined to apply a 122.88 percent rate as adverse facts available for Trinity Pac.²

¹ See sections 776(a) and (b) of the Tariff Act of 1930, as amended (the Act).

² For a full description of the methodology underlying our conclusions, see Preliminary Decision Memorandum.

Preliminary Determination of No Reviewable Entries

With respect to TPN FlexPac Co., Ltd., we preliminarily determine that it had no shipments of subject merchandise to the United States during the POR.³

³ See Preliminary Decision Memorandum.

Rates for Respondents Not Selected for Individual Examination

Section 735(c)(5)(B) of the Act states that “if the estimated weighted average dumping margins established for all exporters and producers individually investigated are zero or de minimis, or determined entirely under section 776” in an investigation, the Department may “use any reasonable method to establish the estimated all-others rate for exporters and producers not individually investigated.” In administrative reviews, when the Department does not review all of the respondents, the Department will rely on section 735(c)(5) of the Act for guidance in determining a rate for companies not individual investigated. In this administrative review, the only rate preliminarily applied to an individually investigated exporter has been determined pursuant to section 776(a) and (b) of the Act. Therefore, consistent with section 735(c)(5)(B) of the Act, we preliminarily determine that a reasonable method for determining the weighted-average dumping margins for the nine non-selected respondents in this review is to apply an all-others rate of 4.69 percent.⁴ This rate is taken from the Section 129 Determination for the original antidumping duty investigation.⁵

⁴ For a full description of the methodology underlying our conclusions, see Preliminary Decision Memorandum.

⁵ See Notice of Implementation of Determination Under Section 129 of the Uruguay Round Agreements Act and Partial Revocation of the Antidumping Duty Order on Polyethylene Retail Carrier Bags From Thailand, 75 FR 48940 (August 12, 2010) (Section 129 Determination).

Preliminary Results of Review

As a result of our review, we preliminarily determine that the following percentage weighted-average dumping margins on PRCBs from Thailand exist for the period August 1, 2011, through July 31, 2012:

Company | Margin percent
Elite Poly and Packaging Co., Ltd | 4.69
Multibax Public Company Limited | 4.69
PMC Innopack Co., Ltd | 4.69
Prepack Thailand Co., Ltd | 4.69
TPN FlexPac Co., Ltd | (*)
Superpac Corporation Co. Ltd | 4.69
Siam Best Products Trading Limited Partnership | 4.69
Two Path Plaspack Co. Ltd | 4.69
Sun Pack Inter Co. Ltd | 4.69
Apple Film Company, Ltd | 4.69
Trinity Pac Co. Ltd | 122.88
* No shipments in this review.

Disclosure and Public Comment

Pursuant to 19 CFR 351.309(c), interested parties may submit cases briefs not later than 30 days after the date of publication of this notice. Rebuttal briefs, limited to issues raised in the case briefs, may be filed not later than five days after the date for filing case briefs. Parties who submit case briefs or rebuttal briefs in this proceeding are encouraged to submit with each argument: (1) A statement of the issue; (2) a brief summary of the argument; and (3) a table of authorities.

Pursuant to 19 CFR 351.310(c), interested parties who wish to request a hearing, or to participate if one is requested, must submit a written request to the Assistant Secretary for Import Administration, filed electronically via IA ACCESS. An electronically filed document must be received successfully in its entirety by the Department's electronic records system, IA ACCESS, by 5 p.m. Eastern Time within 30 days after the date of publication of this notice. Requests should contain: (1) The party's name, address and telephone number; (2) the number of participants; and (3) a list of issues to be discussed. Issues raised in the hearing will be limited to those raised in the respective case briefs. The Department intends to issue the final results of this administrative review, including the results of its analysis of the issues raised in any written briefs, not later than 120 days after the date of publication of this notice, pursuant to section 751(a)(3)(A) of the Act.

Assessment Rates

Upon issuance of the final results, the Department shall determine, and U.S. Customs and Border Protection (CBP) shall assess, antidumping duties on all appropriate entries covered by this review. For the final results, if we continue to rely on total adverse facts available to establish Trinity Pac's weighted-average dumping margin, we will instruct CBP to apply an ad valorem assessment rate of 122.88 percent to all entries of subject merchandise during the POR which were produced and/or exported by Trinity Pac.

For the companies which were not selected for individual examination and for which we did not determine that there were no shipments, we will instruct CBP to apply an ad valorem assessment rate of 4.69 rate to all entries of subject merchandise produced and/or exported by such firms.

Consistent with the Assessment Policy Notice,⁶ for TPN FlexPac Co., Ltd., which claimed that it had no shipments of subject merchandise to the United States, we will instruct CBP to assess antidumping duties on all entries of subject merchandise at the cash deposit rate applicable for the intermediary company, or if no such rate exists, at the all-others rate of 4.69 percent from the Section 129 Determination.

⁶ See Antidumping and Countervailing Duty Proceedings: Assessment of Antidumping Duties, 68 FR 23954 (May 6, 2003) (Assessment Policy Notice).

We intend to issue liquidation instructions to CBP 15 days after publication of the final results of review.

Cash Deposit Requirements

The following deposit requirements will be effective upon publication of the notice of final results of administrative review for all shipments of PRCBs from Thailand entered, or withdrawn from warehouse, for consumption on or after the date of publication, as provided by section 751(a)(2) of the Act: (1) The cash deposit rates for the reviewed companies, except for TPN FlexPac Co., Ltd., will be the rates established in the final results of this review; (2) for previously reviewed or investigated companies not listed above, the cash deposit rate will continue to be the company-specific rate published for the most recent period; (3) if the exporter is not a firm covered in this review, a prior review, or the less-than-fair-value investigation but the manufacturer is, the cash deposit rate will be the rate established for the most recent period for the manufacturer of the merchandise; (4) if neither the exporter nor the manufacturer has its own rate, the cash deposit rate will be 4.69 percent.⁷ These deposit requirements, when imposed, shall remain in effect until further notice.

⁷ See Section 129 Determination.

Notifications to Importer

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

These preliminary results of administrative review are issued and published in accordance with sections 751(a)(1) and 777(i)(1) of the Act.

Dated: May 6, 2013.
Paul Piquado,
Assistant Secretary for Import Administration.

Appendix I

List of Topics Discussed in the Preliminary Decision Memorandum

1. Scope of the Order

2. Selection of Respondents

3. Request for Duty Absorption Determinations

4. Use of Facts Otherwise Available

5. Preliminary Determination of No Reviewable Entries

6. Rate for Non-Selected Companies

[FR Doc. 2013-11319 Filed 5-13-13; 8:45 am]

BILLING CODE 3510-DS-P